DEPARTMENT OF HEALTH AND HUMAN SERVICES

Substance Abuse and Mental Health Services Administration

Fiscal Year (FY) 2003 Funding Opportunity

AGENCY: Substance Abuse and Mental Health Services Administration, HHS.

ACTION: Notice of Funding Availability for SAMHSA Cooperative Agreements for Screening, Brief Intervention, Referral and Treatment.

SUMMARY: The Substance Abuse and Mental Health Services Administration (SAMHSA) Center for Substance Abuse Treatment (CSAT) announces the availability of FY 2003 funds for the cooperative agreements described below. A synopsis of this funding opportunity, as well as many other Federal Government funding opportunities, is also available at the Internet site: www.fedgrants.gov.

This notice is not a complete description of the program; potential applicants must obtain a copy of the Request for Applications (RFA), including Part I, Cooperative Agreements for Screening, Brief Intervention, Referral and Treatment, Part II, General Policies and Procedures Applicable to all SAMHSA Applications for Discretionary Grants and Cooperative Agreements, and the PHS 5161-1 (Rev. 7/00) application form before preparing and submitting an application.

Funding Opportunity Title: Cooperative Agreements for Screening, Brief Intervention, Referral and Treatment—Short Title: SBIRT.

Funding Opportunity Number: TI 03-009.

Catalog of Federal Domestic Assistance (CFDA) Number: 93.243.

Authority: Section: 509 of the Public Health Service Act, as amended and subject to the availability of funds.

Funding Opportunity Description: The Substance Abuse and Mental Health Services Administration (SAMHSA), Center for Substance Abuse Treatment is accepting applications for Fiscal Year 2003 cooperative agreements to expand and enhance State substance abuse treatment service systems by: Expanding the State's continuum of care to include screening, brief intervention, referral, and brief treatment (SBIRT) in general medical and other community settings (e.g., community health centers, school-base health clinics and student assistance programs, occupational health clinics, hospitals, emergency departments); supporting clinically appropriate treatment services for nondependent substance users (i.e., persons with a Substance Abuse Disorder diagnosis) as well as for dependent substance users (i.e., persons with a Substance Dependence Disorder diagnosis); improving linkages among community agencies performing SBIRT and specialist substance abuse treatment agencies; and identifying systems and policy changes to increase access to treatment in generalist and specialist settings.

Eligible Applicants: All States, Territories, and Federally recognized Indian tribes are eligible to apply but the applicant must be the immediate Office of the Governor of States (for Territories and Indian tribes, the Office of the Chief Executive Officer). The Governor must sign the application. Applications not signed by the Governor are not eligible and will not be reviewed. State-level agencies are not considered to be part of the immediate Office of the Governor and are not eligible to apply. This means, for example, that the State Substance Abuse Authority (SSA) or other State-level agencies within the Executive Branch cannot apply independently. SAMHSA has limited the eligibility to Governors of States because the immediate Office of the Governor has the greatest potential to provide the multi-agency leadership needed to develop the State's treatment service systems to increase the State's capacity to provide accessible, effective, screening, brief intervention, referral and brief treatment services to persons with Substance Use Disorders. States that have already begun to develop such integrated systems, stressing early intervention for persons at risk of dependence, are especially encouraged to apply.

Due Date for Applications: July 2, 2003.

Estimated Funding Available/Number of Awards: It is expected that approximately $22 million will be available for an estimated 7 State awards in FY 2003. The average annual award will range from $2,500,000 to $3,500,000 in total costs (direct and indirect). Applications with proposed budgets that exceed $3.5 million will be returned without review.

Is Cost Sharing Required: No.

Period of Support: Up to 5 years, with annual continuation awards depending on the availability of funds, progress achieved and compliance with the Government Performance and Results Act (GPRA) requirements.

How to Get Full Announcement and Application Materials: Complete application kits may be obtained from: The National Clearinghouse for Alcohol and Drug Information (NCADI) at 1-800-729-6686. The PHS 5161-1 application form and the full text of the funding announcement are also available electronically via SAMHSA's World Wide Web Home Page: http://www.samhsa.gov (Click on ‘Grant Opportunities’).

When requesting an application kit, the applicant must specify the funding opportunity title and number for which detailed information is desired. All information necessary to apply, including where to submit applications and application deadline instructions, are included in the application kit.

Contact for Additional Information: Herman I. Diesenhaus, Ph.D., Substance Abuse and Mental Health Services Administration, Center for Substance Abuse Treatment, 5600 Fishers Lane/ Rockwall II, 7th floor, Rockville, MD 20857, (301) 443-6575, E-mail: hdiesenh@samhsa.gov or Jean Donaldson, M.A., Substance Abuse and Mental Health Services Administration, Center for Substance Abuse Treatment, 5600 Fishers Lane/ Rockwall II, 7th floor, Rockville, MD 20857, (301) 443-6259, E-mail: jdonalds@samhsa.gov.

Dated: April 25, 2003.
Richard Kopanda,
Executive Officer, Substance Abuse and Mental Health Services Administration.

[FR Doc. 03-10876 Filed 5-1-03; 8:45 am]

BILLING CODE 4162-20-P